DEPARTMENT OF ENERGY

Federal Energy Regulatory Commission

Combined Notice of Filings # 2

August 3, 2007.

Take notice that the Commission received the following exempt wholesale generator filings:

Docket Numbers: EG07-75-000.

Applicants: FH Opco LLC.

Description: FH Opco LLC's Notice of Self-Certification of Exempt Wholesale Generator Status.

Filed Date: August 2, 2007.

Accession Number: 20070802-5020.

Comment Date: 5 p.m. Eastern Time on Thursday, August 23, 2007.

Take notice that the Commission received the following electric rate filings:

Docket Numbers: ER01-205-021; ER98-4590-021; ER98-2640-019; ER99-1610-025.

Applicants: Xcel Energy Services Inc.

Description: Change in Status Report Compliance Filing.

Filed Date: June 13, 2007.

Accession Number: 20070613-5038.

Comment Date: 5 p.m. Eastern Time on Friday, August 17, 2007.

Docket Numbers: ER04-1046-001.

Applicants: Rensselaer Plant Holdco, LLC.

Description: Rensselaer Cogeneration LLC submits a notification of a change in status to inform the Commission of a non-material departure from the characteristics relied upon by the Commission.

Filed Date: July 31, 2007.

Accession Number: 20070802-0110.

Comment Date: 5 p.m. Eastern Time on Tuesday, August 21, 2007.

Docket Numbers: ER06-1397-002.

Applicants: Allegheny Ridge Wind Farm, LLC.

Description: Notice of Change in Status of Allegheny Ridge Wind Farm, LLC.

Filed Date: July 30, 2007.

Accession Number: 20070730-5050.

Comment Date: 5 p.m. Eastern Time on Monday, August 20, 2007.

Docket Numbers: ER06-311-004.

Applicants: New York Independent System Operator, Inc.

Description: New York Independent System Operator Inc and New York Transmission Owners submits its compliance filing with FERC's June 29, 2007 Order.

Filed Date: July 30, 2007.

Accession Number: 20070802-0094.

Comment Date: 5 p.m. Eastern Time on Monday, August 20, 2007.

Docket Numbers: ER07-319-003; EL07-73-000.

Applicants: Southwest Power Pool, Inc.

Description: Southwest Power Pool, Inc submits their responses to the Commission's request for additional information regarding its real-time energy imbalance service market.

Filed Date: July 30, 2007.

Accession Number: 20070802-0102.

Comment Date: 5 p.m. Eastern Time on Wednesday, August 29, 2007.

Reply Comment: 5 p.m. Eastern Time on Friday, September 28, 2007.

Docket Numbers: ER07-390-001.

Applicants: Nevada Solar One, LLC.

Description: Notice of Non-Material Change in Status of Nevada Solar One, LLC.

Filed Date: August 2, 3007.

Accession Number: 20070802-5068.

Comment Date: 5 p.m. Eastern Time on Thursday, August 23, 2007.

Docket Numbers: ER07-771-001.

Applicants: E. ON U.S. LLC.

Description: Louisville Gas and Electric Co et al submits its revised Schedule 2, Reactive Power Supply and Voltage Control, under its Open Access Transmission Tariff.

Filed Date: July 30, 2007.

Accession Number: 20070802-0086.

Comment Date: 5 p.m. Eastern Time on Monday, August 20, 2007.

Docket Numbers: ER07-815-001.

Applicants: Midwest Independent Transmission System Operator, Inc.

Description: Midwest Independent Transmission System Operator, Inc submits information requested in FERC's deficiency letter.

Filed Date: July 30, 2007.

Accession Number: 20070802-0089.

Comment Date: 5 p.m. Eastern Time on Monday, August 20, 2007.

Docket Numbers: ER07-905-001.

Applicants: Nevada Power Company; Sierra Pacific Resources Operating Company.

Description: Nevada Power Co and Sierra Pacific Power Co submits their compliance filing setting forth revisions to the Sierra Pacific resources Operating Companies' Open Access Transmission Tariff Capacity Based Network Service.

Filed Date: July 30, 3007.

Accession Number: 20070802-0090.

Comment Date: 5 p.m. Eastern Time on Monday, August 20, 2007.

Docket Numbers: ER07-1212-000.

Applicants: Forked River Power LLC.

Description: Petition for Market-Based Rate Authority, Acceptance of Initial Rate Schedule, Waivers and Blanket Authority, FERC Electric Tariff, Original Volume 1.

Filed Date: July 30, 2007.

Accession Number: 20070731-0086.

Comment Date: 5 p.m. Eastern Time on Monday, August 20, 2007.

Docket Numbers: ER07-1213-000.

Applicants: Pacific Gas and Electric Company.

Description: Pacific Gas and Electric Co submits proposed rate changes. for wholesale and retail electric transmission rates shown in Appendices I, II and III of its Transmission Owner Tariff.

Filed Date: July 30, 2007.

Accession Number: 20070731-0107.

Comment Date: 5 p.m. Eastern Time on Monday, August 20, 2007.

Docket Numbers: ER07-1214-000.

Applicants: New England Power Company.

Description: New England Power Co submits a filing to amend the Service Agreement for Network Integration Transmission Service with Middleborough Gas and Electric Department.

Filed Date: July 30, 2007.

Accession Number: 20070802-0087.

Comment Date: 5 p.m. Eastern Time on Monday, August 20, 2007.

Docket Numbers: ER07-1215-000.

Applicants: The Royal Bank of Scotland PLC.

Description: Application of the Royal Bank of Scotland plc for order accepting Market based Rate Schedule for filing and granting waivers and blanket approvals etc FERC Electric Rate Schedule 1.

Filed Date: July 30, 2007.

Accession Number: 20070802-0088.

Comment Date: 5 p.m. Eastern Time on Monday, August 20, 2007.

Docket Numbers: ER07-1227-000.

Applicants: Illinois Municipal Electric Agency.

Description: Illinois Municipal Electric Agency submits a notice of cancellation of its FERC Rate Schedule 1.

Filed Date: July 31, 2007.

Accession Number: 20070802-0108.

Comment Date: 5 p.m. Eastern Time on Tuesday, August 21, 2007.

Take notice that the Commission received the following electric securities filings:

Docket Numbers: ES07-41-001.

Applicants: Duquesne Light Company.

Description: Submittal of Pro Forma Financial Statements, Request for Permission to Issue Securities.

Filed Date: August 2, 2007.

Accession Number: 20070802-5030.

Comment Date: 5 p.m. Eastern Time on Friday, August 10, 2007.

Docket Numbers: ES07-54-000.

Applicants: Electric Transmission Texas, LLC.

Description: Application under section 104 of the Federal Power Act for authorization to issue securities of Electric Transmission Texas LLC.

Filed Date: August 1, 2007.

Accession Number: 20070803-0129.

Comment Date: 5 p.m. Eastern Time on Wednesday, August 22, 2007.

Take notice that the Commission received the following open access transmission tariff filings:

Docket Numbers: OA07-25-001.

Applicants: Duke Energy Carolinas, LLC

Description: Duke Energy Carolinas, LLC submits First Revised Sheet 4 et al. to FERC Electric Tariff, Fifth Revised Volume 4.

Filed Date: July 31, 2007.

Accession Number: 20070802-0109.

Comment Date: 5 p.m. Eastern Time on Tuesday, August 21, 2007.

Take notice that the Commission received the following public utility holding company filings:

Docket Numbers: PH07-25-001.

Applicants: Ecofin Holdings Limited.

Description: FERC Form 65 A Amended Exemption Notification of Ecofin Holdings Limited.

Filed Date: July 30, 2007.

Accession Number: 20070730-5012.

Comment Date: 5 p.m. Eastern Time on Monday, August 20, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-15594 Filed 8-9-07; 8:45 am]

BILLING CODE 6717-01-P